DEPARTMENT OF TRANSPORTATION

Maritime Administration

Notice of Funding Opportunity for America's Marine Highway Projects

AGENCY: Maritime Administration, Department of Transportation.

ACTION: Notice of funding opportunity.

SUMMARY: This notice announces the availability of funding for grants and establishes selection criteria and application requirements for the America's Marine Highway Program (“AMHP”). The purpose of this program is to make grants available to previously designated Marine Highway Projects that support the development and expansion of documented vessels or port and landside infrastructure. The U.S. Department of Transportation (“DOT” or “Department”) also seeks eligible grant projects that will strengthen American supply chains. The Department will award Marine Highway Grants to implement projects or components of projects previously designated by the Secretary of Transportation (“Secretary”) under the AMHP. Only Marine Highway Projects the Secretary designates before the Notice of Funding Opportunity (“NOFO”) closing date are eligible for funding as described in this notice.

DATES: Grant applications must be received by the Maritime Administration (“MARAD”) by 5:00 p.m. E.D.T. on April 29, 2022.

ADDRESSES: Grant applications must be submitted electronically using Grants.gov (https://www.grants.gov). Please be aware that you must complete the Grants.gov registration process before submitting your application and that the registration process usually takes 2 to 4 weeks to complete. Applicants are strongly encouraged to make submissions in advance of the deadline.

FOR FURTHER INFORMATION CONTACT: Fred Jones, Office of Ports & Waterways Planning, Room W21-311, Maritime Administration, U.S. Department of Transportation, 1200 New Jersey Avenue SE, Washington, DC 20590, phone 202-366-1123, or email Fred.Jones@dot.gov. Persons who use a telecommunications device for the deaf (TDD) may call the Federal Information Relay Service (FIRS) at 1-800-877-8339 to contact the above individual during business hours. The FIRS is available twenty-four hours a day, seven days a week, to leave a message or question with the above individual. You will receive a reply during regular business hours.

SUPPLEMENTARY INFORMATION: Each section of this notice contains information and instructions relevant to the Marine Highway Grants application process. All applicants should read this notice in its entirety so that they have the information they need to submit eligible and competitive applications. Applications received after the deadline will not be considered except in the case of unforeseen technical difficulties as outlined below in Section D.6.

Table of Contents

A. Program Description

B. Federal Award Information

C. Eligibility Information

D. Application and Submission Information

E. Application Review Information

F. Federal Award Administration Information

G. Federal Awarding Agency Contacts

A. Program Description

The Secretary, in accordance with 46 U.S.C. 55601, established a marine highway transportation grant program to implement projects or components of designated Marine Highway Projects that provide a coordinated and capable alternative to landside transportation or that promote marine highway transportation. The primary goal of the AMHP is to expand the use of the nation's navigable waters to relieve landside congestion, reduce air emissions, and generate other public benefits by increasing the efficiency of the surface transportation system, and Marine Highway Grants will be awarded to further this purpose.

The Infrastructure Investment and Jobs Act (Pub. L. 117-58, November 15, 2021) (“Bipartisan Infrastructure Law” or “BIL”) appropriated $25,000,000 to be awarded by the Department for Marine Highway Grants. The grant funds currently available are for projects related to vessels documented under 46 U.S.C. Chapter 121 and port and landside infrastructure. Section E of this notice, which outlines the Marine Highway Grants selection criteria, describes the process for selecting projects that further this goal. Section F.3. describes progress and performance reporting requirements for selected projects, including the relationship between that reporting and the program's selection criteria.

Since this program was created, more than $51.7 million has been awarded through competitive grants to implement projects or components of projects designated under 46 U.S.C. 55601. Throughout the program, these discretionary grants have been awarded to projects that have supported the development and expansion of documented vessels and port and landside infrastructure, consistent with DOT's strategic infrastructure goals.¹ The AMHP continues to align with the Department's strategic goals by guiding investments for port and landside infrastructure that expand the use of the nation's navigable waters.² The FY 2022 AMHP round will be implemented, as appropriate and consistent with law, in alignment with the priorities in Executive Order 14052, Implementation of the Infrastructure Investment and Jobs Act (86 FR 64335), which are to invest efficiently and equitably, promote the competitiveness of the U.S. economy, improve job opportunities by focusing on high labor standards, strengthen infrastructure resilience to all hazards, which helps combat the crisis of climate change, coordinate effectively with State, local, Tribal, and territorial government partners, and support the Administration's Justice40 Initiative goal that 40% of the overall benefits from Federal investments in climate and clean energy flow to disadvantaged communities.

¹ See U.S. Department of Transportation Strategic Plan for FY 2018-2022 (Feb. 2018) at https://www.transportation.gov/administrations/office-policy/dot-strategic-plan-fy2018-2022.

² See U.S. Department of Transportation Strategic Framework FY 2022-2026 (Dec. 2021) at https://www.transportation.gov/administrations/office-policy/fy2022-2026-strategic-framework.

The expectations of this notice also reflect the goal of strengthening American supply chains. This vision is consistent with the President's Port Action Plan, which calls for rapid action to relieve supply chain constraints at American ports through significant investments in the near, medium, and long term,³ and the program will seek projects that address supply chain disruptions.

³ The President's Port Action Plan may be found here: https://www.whitehouse.gov/briefing-room/statements-releases/2021/11/09/fact-sheet-the-biden-harris-action-plan-for-americas-ports-and-waterways/.

This round of AMHP grant funding also highlights the Administration's priorities to invest in infrastructure projects that advance the goals of Executive Order 14008, Tackling the Climate Crisis at Home and Abroad (86 FR 7619), Executive Order 13985, Advancing Racial Equity and Support for Underserved Communities Through the Federal Government (86 FR 7009), and Executive Order 14025, Worker Organizing and Empowerment (86 FR 22829) by, for example: Proactively addressing equity ⁴ for all, including people of color and others who have been historically underserved, marginalized, and adversely affected by persistent poverty, inequality, and barriers to opportunity; alleviating surface transportation congestion; and creating good paying jobs with the free and fair choice to join a union.

⁴ Executive Order 13985 defines “equity” as the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.

The America's Marine Highway Program Office (Program Office) follows a three-step approach when supporting investment opportunities for marine highway transportation services. The first step is designation of a Marine Highway Route by the Secretary. The Department accepts Marine Highway Route Designation requests at any time from Route Sponsors. Once a Route is designated, the second step is designation as a Marine Highway Project by the Secretary. Marine Highway Projects represent concepts for new services or expansions of existing marine highway services on designated Marine Highway Routes that use documented vessels and mitigate landside congestion or promote marine highway transportation. MARAD announces by notice in the Federal Register open season periods to allow Project Applicants opportunities to submit Marine Highway Project Designation applications. A Project Applicant must receive a Project Designation to then become eligible for Marine Highway Grant funding for that Project, the third step referenced above. Marine Highway Grant funding (the subject of this NOFO) is provided to successful public and private sector applicants as funds are appropriated by Congress.

The America's Marine Highway Grant program is described in the Federal Assistance Listings with Assistance Listings Number 20.816.

B. Federal Award Information

The total funding available for awards under this NOFO is $24,250,000. This amount represents $25,000,000 from the BIL appropriations less $750,000 for grant administration and oversight as permitted under 49 U.S.C. 109(i).

MARAD will seek to obtain the maximum benefit from the available funding by awarding grants to as many qualified projects as possible; however, per 46 U.S.C. 55601(g)(3), MARAD shall give preference to those projects or components that present the most financially viable transportation services and require the lowest percentage of Federal share of costs. Depending on the characteristics of the pool of qualified applications, it is possible MARAD may award all funds to a single project. MARAD may also award grant funds to support a portion of a project described in an application by selecting a discrete component(s). If this solicitation does not result in the award and obligation of all available funds, MARAD may publish additional solicitations.

MARAD will administer each Marine Highway Grant pursuant to a grant agreement with the successful applicant, and the start date and period of performance for each award will be outlined in each grant agreement. Marine Highway Grant funds will be administered on a reimbursable basis. Unless authorized in writing by MARAD as allowable “pre-award costs” ⁵ and incurred after the Department's announcement of Marine Highway Grant awards, any costs incurred prior to MARAD's obligation of funds for a project are ineligible for reimbursement and are ineligible to count as match for cost share requirements. Obligation occurs when a selected applicant and MARAD enter into a written grant agreement after the applicant has satisfied applicable administrative requirements, including environmental review requirements, such as those under the National Environmental Policy Act (NEPA), and civil rights requirements, including those under Title VI of the Civil Rights Act of 1964, the Americans with Disabilities Act, and Section 504 of the Rehabilitation Act of 1973. MARAD seeks to obligate FY 2022 AMH funds under this notice by September 30, 2025 and expects grant recipients to expend funds within five years of obligation. As part of the review and selection process described in Section E.2., MARAD will consider a project's likelihood of obligating funds by September 30, 2025 and liquidation of these obligations within five years after the date of obligation.

⁵ Pre-award costs are only costs incurred directly pursuant to the negotiation and anticipation of the Marine Highway grant award where such costs are necessary for efficient and timely performance of the scope of work, as determined and pre-approved in writing by MARAD.

MARAD reserves the right to revoke any award of Marine Highway Grant funds and to award such funds to another project to the extent that such funds are not expended in a timely or acceptable manner and in accordance with the project schedule and requirements detailed in the grant agreement.

Prior recipients of Marine Highway Grants may apply for funding to support additional phases of a designated project. However, to be competitive, the grant applicant should demonstrate the extent to which the previously funded project phase has met estimated project schedules and budget, as well as the ability to realize the benefits expected for the new award.

C. Eligibility Information

To be selected for a Marine Highway Grant, an applicant must be an Eligible Applicant and the project must be an Eligible Project.

1. Eligible Applicants

Eligible Applicants for funding available under this notice are original Project Applicants of projects that the Secretary has previously designated as Marine Highway Projects or substitute applicants. A substitute applicant can be either a public entity or a private-sector entity that has been referred to the Program Office by the original Project Applicant in a written letter of support. This letter of support must be included as an attachment to the application for funding. Original Project Applicants are defined as those public entities named by the Secretary in original designated projects. Eligible applicants must have operational or administrative areas of responsibility that are adjacent to or near the relevant designated Marine Highway Project. Eligible Applicants include State governments (including State departments of transportation), metropolitan planning organizations, port authorities, and tribal governments, or private sector operators of marine highway services within designated Marine Highway Projects. Private-sector applicants should refer to Section D.2.vi.(G) for additional documentation that must be submitted to support an eligibility determination.

Eligible Applicants are encouraged to develop coalitions and public/private partnerships, which might include vessel owners and operators; third-party logistics providers; trucking companies; shippers; railroads; port authorities; state, regional, and local transportation planners; environmental organizations; impacted communities; or any combination of entities working in collaboration on a single grant application that can be submitted by the original Project Applicant or their designated substitute. All successful grant applicants, whether they are public or private entities, must comply with all Federal requirements, including the necessary NEPA review and documentation.

If multiple Eligible Applicants submit a joint grant application, they must identify in the application a lead Eligible Applicant as the primary point of contact. Joint grant applications must include a description of the roles and responsibilities of each applicant, including designating the one entity that will receive the Federal funds directly from MARAD, and must include a signed letter of support from each Eligible Applicant as an attachment. Refer to Section D.5., Funding Restrictions, for more information.

2. Cost Sharing or Matching

An Eligible Applicant must provide at least 20 percent of grant project costs from non-Federal sources. Non-Federal sources include State funds originating from programs funded by State revenue, local funds originating from State or local revenue-funded programs, or private funds. The application should demonstrate, such as through a commitment letter or other documentation, the sources of these non-Federal funds. Preference will be given to those projects that provide a larger percentage of costs from non-Federal sources. MARAD will not consider previously incurred costs or previously expended or encumbered funds towards the matching requirement for any project. Matching funds are subject to the same Federal requirements described in Section F.2. as Federally awarded funds, including applicable domestic content requirements. Refer to Section D.2. for information on documenting cost sharing in the application.

For each project that receives a Marine Highway Grant award, the terms of the award will require the recipient to complete the project using at least the level of non-Federal funding that was specified in the application. If the actual costs of the project are greater than the costs estimated in the application, the recipient will be responsible for increasing the non-Federal contribution. If the actual costs of the project are less than the costs estimated in the application, the Department may reduce the Federal contribution.

3. Other

i. Eligible Projects

(A) Capital Projects

Pursuant to the BIL, eligible projects proposed for funding must support the development and expansion of vessels documented under 46 U.S.C. Chapter 121 or port and landside infrastructure. Only projects or their components that the Secretary has designated as Marine Highway Projects by the closing date of this notice are eligible for this round of grant funding. The current list of designated Marine Highway Projects can be found on the MARAD website at: https://cms.marad.dot.gov/sites/marad.dot.gov/files/2021-08/AMH%20Project%20Designations%20Aug%202021.pdf.

Improvements to Federally owned facilities are ineligible under the Marine Highway Grant program.

(B) Planning Projects

Grant funds may also be requested for eligible project planning activities; however, market-related studies are ineligible to receive Marine Highway Grants. Activities eligible for funding under Marine Highway planning grants are related to the planning, preparation, or design—including site design, engineering drawings, cost estimation, feasibility analysis, environmental review, permitting, and preliminary engineering and design work—of eligible documented vessel or port and landside infrastructure projects.

ii. Application Limit

Each applicant may submit no more than one grant application per designated project.

D. Application and Submission Information

1. Address To Request Application Package

This announcement contains all the information needed for applicants to apply for this funding opportunity. Applications may be found at and must be submitted through Grants.gov.

2. Content and Form of Application Submission

The application must include the Standard Form 424 (Application for Federal Assistance), which can be found on Grants.gov, and the Project Narrative. MARAD recommends that the Project Narrative follows the basic outline below to address the program requirements and assist evaluators in locating relevant information.

I. First Page of Project Narrative | See D.2.i.
II. Project Description | See D.2.ii.
III. Project Location | See D.2.iii.
IV. Grant Funds, Sources, and Uses of Project Funds | See D.2.iv.
V. Selection Criteria | See D.2.v. and E.1.
VI. Other Application Requirements | See D.2.vi.

The Project Narrative should include the information necessary for MARAD to determine that the project satisfies the requirements described in Sections B and C, and to assess the selection criteria specified in Section E.1., including a detailed project description, location, and budget. To the extent practicable, applicants should provide supporting data and documentation in a form that is directly verifiable by MARAD. Applicants are strongly encouraged to provide quantitative information, including baseline information, that demonstrates a project's merits and economic viability. MARAD may ask any applicant to supplement data in its application but expects applications to be complete upon submission. Incomplete applications may not be considered for an award.

The Project Narrative should also include a table of contents, maps, and graphics, as appropriate, to make the information easier to review. MARAD recommends that the Project Narrative be prepared with standard formatting preferences (a single-spaced document, using a standard 12-point font such as Times New Roman, with 1-inch margins, and the narrative text in one column only). The Project Narrative may not exceed 12 pages in length, excluding the table of contents and appendices. The only substantive portions that may exceed the 12-page limit are documents supporting assertions or conclusions made in the 12-page Project Narrative. If possible, website links to supporting documentation should be provided rather than copies of these supporting materials. It is important to ensure that the website links are currently active, accessible, and working. If supporting documents are submitted, applicants should clearly identify within the Project Narrative the relevant portion of the Project Narrative that each supporting document supports. MARAD recommends using appropriately descriptive file names (e.g., “Project Narrative,” “Maps,” “Letters of Support”) for all attachments. At the applicant's discretion, relevant materials provided previously in support of a Marine Highway Project application may be referenced, updated, or described as unchanged. To the extent documents provided previously are referenced, they need not be resubmitted in support of a Marine Highway Grant application.

To ensure the Project Narrative is sufficiently detailed and informative, MARAD recommends applications include the following sections:

i. First Page of Project Narrative

The first page of the Project Narrative should provide the following items of information:

(A) Marine Highway Designated Project name and the original Project Applicant (as stated on the Marine Highway Program's list of Designated Projects);

(B) Primary point of contact, including the name, phone number, email address, and business address of the primary point of contact for the Eligible Applicant. If submitting a joint application, the primary point of contact should be for the lead Eligible Applicant;

(C) Total amount of the proposed grant project cost in dollars and the amount of Federal grant funds the applicant is seeking, along with sources and share of matching funds;

(D) Executive Summary, which should include an outline of the background of the project, the need for the project, and how the grant funding will be applied in the context of the service referenced in the original Project Designation application;

(E) The public and private partners engaged in the Marine Highway Project;

(F) The Unique Entity Identifier (UEI) Number ⁶ associated with the application—Marine Highway Grant Recipients and their first-tier sub-awardees must obtain UEI numbers, which are available in SAM.gov; and

⁶ On April 4, 2022, the Federal government will stop using the Data Universal Numbering System (DUNS) number to uniquely identify entities. At that point, entities doing business with the Federal government will use a Unique Entity Identifier (UEI) created in SAM.gov. If your entity is currently registered in SAM.gov, your UEI has already been assigned and is viewable in SAM.gov. This includes inactive registrations.

(G) Evidence of registration with the System for Award Management (SAM) at https://www.SAM.gov.

ii. Project Description

The next section of the application should provide a description of the project. The project description must be in paragraph form providing a high-level view of the overall project and its major components. This section should discuss the project's history, including a description of any previously completed components. The applicant may use this section to place the project into a broader context of other transportation infrastructure investments being pursued by the grant applicant, and, if applicable, how it will benefit communities in rural areas. The project description should be sufficiently detailed so that the NEPA class of action can be determined without additional requests for information.

This section should also include a timeline for implementing the project, including identifying major project milestones. The project schedule should be sufficiently detailed to demonstrate that the project can complete construction and expend all funds within five years after obligation. See Section B.

Additionally, if a project addresses regional or national supply chain delays on the freight transportation network or strengthens supply chain resiliency, this section of the application should include sufficient information to enable evaluation of: (i) An existing or anticipated regional or national supply chain delay and (ii) how the project will address the identified delay. Applications should also address how quickly the project can mitigate the supply chain delay or strengthen supply chain resiliency.

This section should also describe whether the project addresses equity and barriers to opportunity. Applicants are encouraged to describe credible planning activities and actions to resolve potential inequities and barriers to equal opportunity in the project as reflected in Executive Order 13985, Advancing Racial Equity and Support for Underserved Communities Through the Federal Government (86 FR 7009). For example, the applicant should describe: How the project incorporates an equity impact analysis; how the project adopts an equity and inclusion program/plan or implementation of equity-focused policies related to project procurement, material sourcing, construction, inspection, or other activities designed to ensure racial equity in the overall project delivery and implementation; or documentation of equity-focused community outreach and public engagement in the project's planning and project elements in underserved communities, including Historically Disadvantaged Communities. DOT has been developing a definition of Historically Disadvantaged Communities as part of its implementation of the Justice40 Initiative and will use that definition for the purpose of this NOFO. Consistent with OMB's Interim Guidance for the Justice40 Initiative,⁷ Historically Disadvantaged Communities include (a) certain qualifying census tracts, (b) any Tribal land, or (c) any territory or possession of the United States. Additionally, DOT is providing a mapping tool to assist applicants in identifying whether a project is located in a Historically Disadvantaged Community at Transportation Disadvantaged Census Tracts.⁸ Any policies, plans, and outreach documentation related to advancing equity or removing barriers to opportunity should be briefly discussed and provided as an appendix to the Project Narrative.

⁷ https://www.whitehouse.gov/wp-content/uploads/2021/07/M-21-28.pdf.

⁸ Information on DOT's Disadvantaged Census Tract tool (Transportation Disadvantaged Census Tracts) can be found at: https://usdot.maps.arcgis.com/apps/dashboards/d6f90dfcc8b44525b04c7ce748a3674a. For technical assistance in using this tool, please contact gmo@dot.gov or the AMHP contact.

Consistent with the Department's Rural Opportunities to Use Transportation for Economic Success (ROUTES) Initiative (https://www.transportation.gov/rural), the Department encourages applicants to describe how activities proposed in their applications would address the unique challenges facing rural transportation networks, regardless of the geographic location of those activities.

iii. Project Location

This section of the application should describe the project location, including a detailed geographical description of the proposed project, a map of the project's location and connections to existing transportation infrastructure, and geospatial data describing the project location.

The application should also identify:

(A) Whether the project is located in a Federally designated community development zone ⁹ such as a qualified Opportunity Zone; ¹⁰ Empowerment Zone; ¹¹ Promise Zone; ¹² or Choice Neighborhood; ¹³

⁹ For projects that are located in a Federally designated community development zone, the applicant must identify the zone and provide related identifying data (such as the Opportunity Zone number).

¹⁰ See https://opportunityzones.hud.gov/.

¹¹ See https://www.hud.gov/hudprograms/empowerment_zones.

¹² See https://www.hud.gov/program_offices/field_policy_mgt/fieldpolicymgtpz.

¹³ See https://www.hud.gov/program_offices/public_indian_housing/programs/ph/cn.

(B) whether the project is located in a Historically Disadvantaged Community, including the relevant census tract(s) (as defined in Section D.2.ii.); and

(C) whether the project is located in a 2010 Census-designated urban area ¹⁴ or rural area.¹⁵

¹⁴ For the purpose of this NOFO, a project is designated as urban if it is located within (or on the boundary of) a Census-designated urbanized area (UA) that had a population greater than 50,000 in the 2010 Census. Lists of 2010 UAs as defined by the Census Bureau are available on the Census Bureau website at https://www.census.gov/geographies/reference-maps/2010/geo/2010-census-urban-areas.html. For the purpose of this NOFO, the definition of urban and rural is based on the 2010 Census-designated urban areas since urban areas have not been designated for the 2020 Census at the time of this NOFO publication.

¹⁵ MARAD will consider a project to be in a rural area if the majority of the project (determined by geographic location(s) where the majority of the money is to be spent) is located outside of a Census-designated urbanized area with a population of 50,000 or greater. Grant funds utilized in an urbanized area border, including an intersection with an urbanized area, will be considered urban for the purposes of the Marine Highway Grants program.

iv. Grant Funds, Sources, and Uses of Project Funds

This section of the application should describe the project's budget (i.e., the project scope that includes Marine Highway funding and non-Federal cost share). The budget should not include any previously incurred expenses. At a minimum, it should include:

(A) Project costs;

(B) The sources and amounts of funds to be used for project costs;

(C) For non-Federal funds to be used for eligible project costs, documentation of funding commitments should be referenced here and included as an appendix to the application;

(D) For other Federal (non-AMHP) funds to be used for eligible project costs, the amounts, nature, and sources of any required non-Federal match for those funds; and

(E) A budget showing how each source of funds will be spent. The budget should show how each funding source will share in each project component, and present that data in dollars and percentages. Funding sources should be grouped into three categories: Non-Federal; Marine Highway Grant funding; and other Federal. A letter of commitment from each funding source should be an attachment to the application. If the project contains individual components, the budget should separate the costs of each project component. The budget should sufficiently demonstrate that the project satisfies the statutory cost-sharing requirements described in Section C.2.

v. Selection Criteria

This section of the application should demonstrate how the project proposed for grant funding aligns with the criteria described below and in Section E.1. MARAD encourages applicants to address each criterion, or expressly state that the project does not address the criterion. Applicants are not required to follow a specific format, but MARAD recommends applicants address each criterion separately using the outline suggested below and provide a clear discussion that assists project evaluators in evaluating how each project meets the selection criteria. Guidance describing how MARAD will evaluate projects against the selection criteria is in Section E.1. of this notice. Applicants also should review that section before considering how to organize and complete their applications. To minimize redundant information in an application, MARAD encourages applicants to cross-reference from this section of their application to relevant substantive information in other sections of the application.

(A) Primary Selection Criteria

(1) This section of the application should demonstrate the extent to which the project is financially viable. Per 46 U.S.C. 55601(g)(3), preference will be given to projects or components that present the most financially viable transportation services.

(2) This section of the application should demonstrate that the funds received will be spent efficiently and effectively.

(3) This section of the application should demonstrate that a market exists for the services of the proposed project as evidenced by contracts or written statements of intent from potential customers.

(4) This section of the application should describe the public benefits anticipated by the proposed grant project, as outlined in 46 CFR 393.3(c)(8), and described below. The public benefits described in the relevant Marine Highway Project Designation application may be referenced, updated, or described as unchanged. Applicants will need to clearly demonstrate that the original public benefits outlined in the original Project Designation application apply to the specific grant funding request associated with this notice, and provide any updates or supplemental information regarding the original public benefits, as necessary. To the extent referenced, this information need not be resubmitted in support of a Marine Highway Grant application. Applicants should organize the external net cost savings and public benefits of the proposed grant project based on the following six categories:

i. Emissions benefits;

ii. Energy savings;

iii. Landside transportation infrastructure maintenance savings;

iv. Economic competitiveness;

v. Safety improvements; and

vi. System resiliency and redundancy.

vi. Other Application Requirements

(A) National Environmental Policy Act (NEPA) Requirements

(1) Information about the NEPA status of the Project. Projects selected for grant award must comply with NEPA and any other applicable environmental laws. The application should include sufficient detail on the project in order for MARAD to determine the NEPA class of action. The application should indicate the anticipated NEPA level of review for the project and describe any environmental analysis in progress or completed. This includes Categorical Exclusion, Environmental Assessment/Finding of No Significant Impact, or Environmental Impact Statement/Record of Decision. The applicant should review the Maritime Administration Manual of Orders MAO 600-1 (available at https://www.maritime.dot.gov/sites/marad.dot.gov/files/docs/environment-security-safety/office-environment/596/mao600-001-0.pdf) prior to submission. The application should detail the type of NEPA review underway, where the project is in the process, provide a website link or other reference to copies of any environmental documents prepared, and indicate the anticipated date of completion of all milestones and of the final NEPA determination. If the last agency action with respect to NEPA documents occurred more than three years before the application date, the applicant should describe why the project has been delayed and include a proposed approach for verifying and, if necessary, updating this material in accordance with applicable NEPA requirements. The applicant should be aware that the final determination of NEPA class of action will be made by MARAD after grant award announcement. The successful applicant will be responsible for the completion of MARAD's NEPA documentation, in collaboration with MARAD's Office of Environmental Compliance, prior to execution of the grant agreement.

(2) Environmental Permits and Reviews. The application should demonstrate receipt (or reasonably anticipated receipt) of all environmental permits and approvals necessary, such as Army Corps of Engineers permits. Additionally, the successful applicant, in collaboration with MARAD, will be responsible for the completion of Section 106 of the National Historic Preservation Act, 54 U.S.C. 306108, and Section 7 of the Endangered Species Act, 16 U.S.C. 1531, consultations prior to completing NEPA. Applications should also identify any additional Federal, State, and local permits and approvals necessary for project completion.

(B) Other Federal, State, and Local Actions

An application must indicate whether a proposed project is likely to require actions by other agencies, indicate the status of such actions, provide a website link or other reference to materials submitted to the other agencies, and demonstrate compliance with other Federal, state, or local regulations and permits as applicable. This section should also include a description of whether the project is dependent on, or affected by, U.S. Army Corps of Engineers investment as well as the U.S. Army Corps of Engineers planned activities as it relates to the project.

(C) Domestic Preference

If a project intends to use any product with foreign content or of foreign origin, this information should be listed and addressed in the application. Applications should expressly address how the applicant plans to comply with domestic preference requirements and the applicant's current efforts and planned efforts to maximize domestic content. If an applicant anticipates any potential foreign-content issues with its proposed project, applications should demonstrate that the domestic source is not available and how that determination was reached.

(D) Addressing Climate Change and Decarbonization

MARAD seeks to fund projects under the AMHP that proactively consider climate change and align with the President's greenhouse gas reduction goals and promote energy efficiency. As part of the Department's implementation of Executive Order 14008, Tackling the Climate Crisis at Home and Abroad (86 FR 7619), MARAD also seeks to fund projects that address environmental justice, particularly for communities that disproportionally experience climate change-related consequences. In support of this priority, applications should address whether the project has incorporated climate change and environmental justice ¹⁶ in project planning and/or design components, particularly for communities that disproportionally experience climate change-related consequences. To address the planning element of this criterion, the application should describe what specific climate change or environmental justice activities have been completed or are planned for the project. This could include identifying how emissions reductions will specifically benefit disadvantaged communities or to what extent it will create employment opportunities and economic benefits to the local community. The application should indicate whether a project is incorporated in a climate action plan, whether an equitable development plan has been prepared, and whether (and how) the results of planning tools such as DOT's Disadvantaged Census Tract tool or EPA's EJSCREEN have been incorporated into the project.¹⁷

¹⁶ Environmental justice, as defined by the Environmental Protection Agency, is the fair treatment and meaningful involvement of all people regardless of race, color, national origin, or income, with respect to the development, implementation, and enforcement of environmental laws, regulations, and policies.

¹⁷ The EJSCREEN tool can be found on the EPA site: https://ejscreen.epa.gov/mapper/.

To address whether the project has incorporated climate change and environmental justice in the design components, the application should describe specific and direct ways that the project will mitigate or reduce climate change impacts. This may include a description of how the project incorporates multimodal infrastructure to reduce climate impacts, such as by ensuring that cargo is moved by the most climate-efficient/friendly mode of transportation. This section should also describe ways that the project reduces emissions or uses technology to increase energy efficiency, and whether the proposed grant project demonstrates a movement towards lower carbon emissions or near-zero emissions. This may include, but is not limited to:

(1) The use of alternative, low carbon fuels for vessels or cargo handling equipment;

(2) The use of alternative technologies, such as fuels cells, batteries, hybrid systems, etc. for vessels or cargo handling equipment;

(3) The procurement or leasing of low or no emission cargo-handling equipment that make greater reductions in energy consumption and harmful emissions than comparable equipment;

(4) The use of port-based alternative energy sources such as low carbon-powered microgrids or charging stations; and/or

(5) Best practices that promote low carbon/energy efficiency cargo movement or handling operations.

(E) Certification Requirements

For an application to be considered for a grant award, the Chief Executive Officer, or equivalent, of the Eligible Applicant is required to certify, in writing, the following:

(1) That, except as noted in this grant application, nothing has changed from the original application for formal designation as a Marine Highway Project; and

(2) The Eligible Applicant will administer the project and any funds received will be spent efficiently and effectively; and

(3) The Eligible Applicant will provide information, data, and reports as required.

(F) Protection of Confidential Commercial Information

Eligible Applicants should submit, as part of or in support of applications, publicly available data or data that can be made public and methodologies that are accepted by industry practice and standards to the extent possible. If an application includes information that the applicant considers to be a trade secret or confidential commercial or financial information, the applicant should do the following: (i) Note on the front cover that the submission contains “Confidential Commercial Information (CCI)”; (ii) mark each affected page “CCI”; and (iii) highlight or otherwise denote the CCI portions. MARAD will protect such information from disclosure to the extent allowed under applicable law. In the event MARAD receives a Freedom of Information Act (FOIA) request for the information, procedures described in the Department's FOIA regulation at 49 CFR 7.29 will be followed. Only information that is ultimately determined to be confidential under those procedures will be exempt from disclosure under FOIA.

(G) Additional Application Information Needed From All Private-Sector Applicants, Including Previous Recipients of AMHP Grant Funding

(1) Written letter of support from the original Project Applicant stating that the private entity has been referred by the original Project Applicant for the relevant designated Marine Highway Project.

(2) A description of the entity including location of the headquarters; a description of the entity's assets (tugs, barges, etc.); years in operation; ownership; customer base; and website address, if any.

(3) Unique Entity Identifier of the parent company (when applicable): Data Universal Numbering System (DUNS + 4 number).

(4) The most recent year-end audited, reviewed, or compiled financial statements, prepared by a certified public accountant (CPA), per U.S. generally accepted accounting principles (not tax-based accounting financial statements). If CPA prepared financial statements are not available, provide the most recent financial statement for the entity. Do not provide tax returns.

(5) Statement regarding the relationship between applicants and any parents, subsidiaries, or affiliates, if any such entity is going to provide a portion of the matching funds.

(6) Evidence documenting applicant's ability to make proposed matching requirement (loan agreement, commitment from investors, cash on balance sheet, etc.).

(7) Pro-forma financial statements reflecting financial condition at beginning of period; effect on balance sheet of grant and matching funds (e.g., a decrease in cash or increase in debt, additional equity and an increase in fixed assets); and impact on company's projected financial condition (balance sheet) of completion of project, showing that company will have sufficient financial resources to remain in business.

(8) Statement regarding whether during the past five years, the applicant or any predecessor or related company has been in bankruptcy or in reorganization under Chapter 11 of the Bankruptcy Code, or in any insolvency or reorganization proceedings, and whether any substantial property of the applicant or any predecessor or related company has been acquired in any such proceeding or has been subject to foreclosure or receivership during such period. If so, give details.

(9) Additional information may be requested as deemed necessary by MARAD to facilitate and complete its review of the application. If such information is not provided, MARAD may deem the application incomplete and cease processing it.

(10) Company Officer's certification of each of the following:

i. That the company operates in the geographic location of the designated Marine Highway Project;

ii. That the applicant has the authority to carry out the proposed project; and

iii. That the applicant has not, and will not, make any prohibited payments out of the requested grant, in accordance with the Department of Transportation's regulation restricting lobbying, 49 CFR part 20.

3. Unique Entity Identifier and System for Award Management (SAM)

MARAD will not make an award to an applicant until the applicant has complied with all applicable Unique Entity Identifier and SAM requirements. Each applicant must be registered in SAM before applying, provide a valid Unique Entity Identifier number in its application, and maintain an active SAM registration with current information at all times during which it has an active Federal award or an application or plan under consideration by a Federal awarding agency. Applicants may register with the SAM at www.SAM.gov. If an applicant has not fully complied with the requirements by the time MARAD is ready to make an award, MARAD may determine that the applicant is not qualified to receive a Federal award under this program.

4. Submission Dates and Times

Applications must be submitted to Grants.gov by 5:00 p.m. E.D.T. on April 29, 2022.

5. Funding Restrictions

Grant funds may only be used for the purposes described in this notice and may not be used as an operating subsidy. Market-related studies are ineligible for Marine Highway Grant funds, as are improvements to Federally owned facilities.

MARAD will not consider previously incurred costs or previously expended or encumbered funds towards the matching requirement for any project. Unless authorized by MARAD in writing after MARAD's announcement of Marine Highway Grant awards, any costs incurred before a grant agreement is executed will not be reimbursed and will not count towards cost share requirements.

Federal award recipients and sub-recipients are prohibited from obligating or expending grant funds to procure or obtain; extend or renew a contract to procure or obtain; or enter into a contract (or extend or renew a contract) to procure or obtain equipment, services, or systems that use covered telecommunications equipment or services as a substantial or essential component of any system, or as critical technology as part of any system. See Section 889 of Public Law 115-232 (National Defense Authorization Act for Fiscal Year 2019) and 2 CFR 200.216 & 200.471.

6. Other Submission Requirements

Grant applications must be submitted electronically using Grants.gov (https://www.grants.gov). To submit an application through Grants.gov, applicants must:

i. Obtain a Unique Entity Identifier (UEI) number;

ii. Register with the System for Award Management (SAM) at www.SAM.gov;

iii. Create a Grants.gov username and password; and

iv. Complete Authorized Organization Representative (AOR) registration in Grants.gov. The E-Business Point of Contact (POC) at the applicant's organization must respond to the registration email from Grants.gov and login at Grants.gov to authorize the applicant as the AOR. Please note that there can be more than one AOR for an organization.

Please note that the Grants.gov registration process usually takes 2-4 weeks to complete and the Department will not consider late applications that are the result of a failure to register or comply with Grants.gov applicant requirements in a timely manner. For information and instruction on each of these processes, please see instructions at https://www.grants.gov/applicants/applicant-faqs.html. If applicants experience difficulties at any point during the registration or application process, please call the Grants.gov Customer Service Support Hotline at 1 (800) 518-4726.

Late applications that are the result of failure to register or comply with Grants.gov application requirements in a timely manner will not be considered. Applicants experiencing technical issues with Grants.gov that are beyond the applicant's control must contact MH@dot.gov or Fred Jones at (202) 366-1123 prior to the deadline with the username of the registrant and details of the technical issue experienced. The applicant must provide: (i) Details of the technical issue experienced; (ii) screen capture(s) of the technical issue experienced along with the corresponding “Grant tracking number” that is provided via Grants.gov; (iii) the “Legal Name” for the applicant that was provided in the SF-424; (iv) the name and contact information for the person to be contacted on matters involving submission that is included on the SF- 424; (v) the Unique Entity Identifier number associated with the application; and (vi) the Grants.gov Help Desk Tracking Number.

E. Application Review Information

1. Selection Criteria

This section specifies the criteria that MARAD will use to evaluate and award applications for Marine Highway Grants. These criteria incorporate the statutory requirements for this program, as well as Departmental and programmatic priorities.

When reviewing grant applications, MARAD will consider how the proposed service could satisfy, in whole or in part, 46 U.S.C. 55601(b)(1) and (3) and the following criteria found at 46 U.S.C. 55601(g)(2)(B):

i. The project is financially viable;

ii. The funds received will be spent efficiently and effectively; and

iii. A market exists for the services of the proposed project as evidenced by contracts or written statements of intent from potential customers.

MARAD will also consider how the proposed request for funding outlined in the grant application supports the elements of 46 CFR 393.3(c)(8) (Public benefits) as a key programmatic objective.

In awarding grants under the program, MARAD will give preference to those projects or components that present the most financially viable marine highway transportation services and require the lowest total percentage Federal share of the costs.

After applying the above criteria, in support of Departmental priorities related to climate change, including advancing the goals outlined in Executive Order 14008, Tackling the Climate Crisis at Home and Abroad (86 FR 7619), MARAD will evaluate whether the project incorporates climate change, environmental justice, and decarbonization activities in project planning and/or design elements. MARAD will give preference to projects that demonstrate a movement towards lower carbon emissions or near-zero emissions, as described in Section D.2.vi.(D).

In support of Executive Order 13985, Advancing Racial Equity and Support for Underserved Communities Through the Federal Government (86 FR 7009), MARAD will also consider the extent to which applications address equity and the removal of barriers to opportunity through the activities described in Section D.2.ii., such as meaningful, equity-focused community outreach and public engagement of underserved communities, and adoption of an equity and inclusion program or plan or equity-focused policies related to the proposed project.

In addition, since the AMHP is intended to create transportation options that enhance supply chain reliance, MARAD will consider how a project improves the supply chain. Reviewers will consider the extent to which information in the narrative demonstrates how the project positively impacts the supply chain, as described further in Section D.2.ii. For example, reviewers will consider whether a project proposes elements that improve transportation links to critical infrastructure, promotes lower-carbon supply chain infrastructure, or invests in supply chain reliability improvements. Projects that have significant regional or national supply chain system impacts will be more competitive than ones that do not.

DOT will consider whether a project is located within a Historically Disadvantaged Community or a Federally designated community development zone (a qualified opportunity zone, Empowerment Zone, Promise Zone, or Choice Neighborhood). Applicants must specify in their narrative which zone (or zones) the project is in and provide sufficient identifying information (such as the Opportunity Zone tract number) so that reviewers can verify the claim. A project located in a Historically Disadvantaged Community or a Federally designated community development zone is more competitive than a similar project that is not. The Department will rely on applicant-supplied information to assist in making this assessment and will only consider this if the applicant expressly identifies the designation in their application.

MARAD will also consider a project's likelihood of obligating funds by September 30, 2025.

2. Review and Selection Process

Upon receipt, MARAD will conduct a technical review to evaluate applications using the criteria outlined above. Upon completion of the technical review, MARAD will forward the applications to an inter-agency review team (Intermodal Review Team). The Intermodal Review Team will include members of MARAD, other Department of Transportation Operating Administrations, and representatives from the Office of the Secretary of Transportation. The Intermodal Review Team will review and provide comments to the Program Office for each application based on the criteria set forth above. The Program Office will use those comments to inform the recommendations that will be made to the Maritime Administrator and the Secretary.

3. Federal Awardee Performance and Integrity Information System (FAPIIS) Check

Before making a Federal award with a total amount of Federal share greater than the simplified acquisition threshold of $250,000 (see 2 CFR 200.88 Simplified Acquisition Threshold), MARAD will review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. MARAD will consider any comments by the applicant, in addition to the other information in the designated integrity and performance system, in making a judgment about the applicant's integrity, business ethics, and record of performance under Federal awards when completing the review of risk posed by applicants.

F. Federal Award Administration Information

1. Federal Award Notices

Following the evaluation outlined in Section E, the Secretary will announce the selected grant award recipients. The award announcement will be posted on the MARAD website (https://www.maritime.dot.gov).

Recipients of an award will not receive lump-sum cash disbursements at the time of award announcement or obligation of funds. Instead, Marine Highway Grant funds will reimburse recipients only after grant agreements have been executed, allowable expenses are incurred, and valid requests for reimbursement have been submitted and approved by the MARAD grants officer. Marine Highway Grant recipients must adhere to applicable requirements and follow established procedures to receive reimbursement. Unless authorized in writing by MARAD, an expense incurred before a grant agreement is executed will not be reimbursed or count towards cost share requirements.

2. Administrative and National Policy Requirements

All awards must be administered pursuant to the “Uniform Administrative Requirements, Cost Principles, and Audit Requirements for Federal Awards” found at 2 CFR part 200, as adopted by the Department at 2 CFR part 1201. All procurement transactions for the acquisition of property or services under the Federal award must be conducted in a manner providing full and open competition unless MARAD authorizes a noncompetitive procurement in accordance with 2 CFR 200.320(c). Federal wage rate requirements included at 40 U.S.C. 3141-3148 apply to all projects receiving funds under this program and apply to all parts of the project, whether funded with Federal funds or non-Federal funds. Additionally, other applicable Federal laws, Executive Orders, and any rules, regulations, and requirements of MARAD will apply to projects that receive Marine Highway Grants.

As expressed in Executive Order 14005, Ensuring the Future is Made in All of America by All of America's Workers (86 FR 7475), it is the policy of the executive branch to use terms and conditions of Federal financial assistance awards to maximize, consistent with law, the use of goods, products, and materials produced in, and services offered in, the United States. Consistent with the requirements of the Build America, Buy America Act (Pub. L. 117-58, Division G, Title IX, Subtitle A, November 15, 2021), no amounts made available through this NOFO may be obligated for a project unless all iron, steel, manufactured products, and construction materials used in the project are produced in the United States. Depending on other funding streams, the project may be subject to separate “Buy America” requirements.

All recipients must comply with the requirements under Title VI of the Civil Rights Act of 1964, Section 504 of the Rehabilitation Act, and their implementing regulations. Applicants should review these civil rights statutes carefully to ensure full compliance with these obligations. These requirements apply to recipients as well as all subrecipients. The successful applicant will be responsible for implementing an effective and compliant Title VI and Section 504 program under the technical assistance from MARAD's Office of Civil Rights.

In connection with any program or activity conducted with or benefiting from funds awarded under this notice, recipients of funds must comply with all applicable requirements of Federal law, including, without limitation, the Constitution of the United States; the conditions of performance, nondiscrimination requirements, and other assurances made applicable to the award of funds in accordance with regulations of the Department of Transportation; and applicable Federal financial assistance and contracting principles promulgated by the Office of Management and Budget. In complying with these requirements, recipients, in particular, must ensure that no concession agreements are denied or other contracting decisions made on the basis of speech or other activities protected by the First Amendment. If the Department determines that a recipient has failed to comply with applicable Federal requirements, the Department may terminate the award of funds and disallow previously incurred costs, requiring the recipient to reimburse any expended award funds.

3. Reporting

a. Progress Reporting on Grant Activities

Award recipients are required to submit quarterly reports, signed by officers of the recipients, to the Program Office to keep MARAD informed of all activities during the reporting period. The reports will indicate progress made, planned activities for the next reporting period, and a listing of any purchases made with grant funds during the reporting period. In addition, the report will include an explanation of any deviation from the projected budget and timeline. Quarterly reports will also contain, at a minimum, the following: (i) A statement as to whether the award recipient has used the grant funds consistent with the terms contemplated in the grant agreement; (ii) if applicable, a description of the budgeted activities not procured by recipient; (iii) if applicable, the rationale for recipient's failure to execute the budgeted activities; (iv) if applicable, an explanation as to how and when recipient intends to accomplish the purposes of the grant agreement; and (v) a budget summary showing funds expended since commencement, anticipated expenditures for the next reporting period, and expenditures compared to overall budget.

b. Performance Reporting

Award recipients will also collect information and report on a project's observed performance with respect to the relevant long-term outcomes that are expected to be achieved through the project. Performance indicators will not include formal goals or targets, but will include observed measures under baseline (pre-project) as well as post-implementation outcomes for an agreed-upon timeline, and will be used to evaluate and compare projects and monitor the results that grant funds achieve to the intended long-term outcomes of the AMHP. Performance reporting continues for several years after the project is completed, and MARAD does not provide Marine Highway Grant funding specifically for performance reporting.

c. Reporting of Matters Related to Recipient Integrity and Performance

If the total value of a selected applicant's currently active grants, cooperative agreements, and procurement contracts from all Federal awarding agencies exceeds $10,000,000 for any period of time during the period of performance of this Federal award, then the applicant during that period of time must maintain the currency of information reported to the SAM that is made available in the designated integrity and performance system (currently FAPIIS) about civil, criminal, or administrative proceedings described in paragraph 2 of 2 CFR Appendix XII to Part 200. This is a statutory requirement under Section 872 of Public Law 110-417, as amended (41 U.S.C. 2313). As required by Section 3010 of Public Law 111-212, all information posted in the designated integrity and performance system on or after April 15, 2011, except past performance reviews required for Federal procurement contracts, will be publicly available.

G. Federal Awarding Agency Contacts

To ensure applicants receive accurate information about eligibility, the program, or in response to other questions, applicants are encouraged to contact MARAD directly, rather than through intermediaries or third parties. Please see contact information in the FOR FURTHER INFORMATION CONTACT section above.

* * * * *

By Order of the Acting Maritime Administrator.
T. Mitchell Hudson, Jr.,
Secretary, Maritime Administration.

[FR Doc. 2022-04599 Filed 3-3-22; 8:45 am]

BILLING CODE 4910-81-P